DEPARTMENT OF COMMERCE

International Trade Administration

[A-583-854]

Certain Steel Nails From Taiwan: Preliminary Results and Rescission, in Part, of Antidumping Administrative Review; 2022-2023; Correction

AGENCY: Enforcement and Compliance, International Trade Administration, Department of Commerce.

ACTION: Notice; correction.

SUMMARY: The U.S. Department of Commerce (Commerce) published notice in the Federal Register of July 16, 2024 in which Commerce published its preliminary results and rescission, in part, of the 2022-2023 administrative review of the antidumping (AD) order on certain steel nails from Taiwan. In that notice, Commerce incorrectly listed a company in Appendix I, and incorrectly stated the name of a company in Appendix II.

FOR FURTHER INFORMATION CONTACT: Faris Montgomery or Henry Wolfe, AD/CVD Operations, Office VIII, Enforcement and Compliance, International Trade Administration, U.S. Department of Commerce, 1401 Constitution Avenue NW, Washington, DC 20230; telephone: (202) 482-1537 or (202) 482-0574, respectively.

SUPPLEMENTARY INFORMATION:

Background

On July 16, 2024, Commerce published in the Federal Register its preliminary results and partial rescission in the 2022-2023 administrative review of certain steel nails from Taiwan.¹ In that notice, we incorrectly listed Integral Building Products Inc. in Appendix I as a company for which Commerce is rescinding the administrative review. Additionally, Liang Chyuan Industrial Co., Ltd. was correctly listed as a company which is not selected for individual examination in Appendix II. Commerce has previously determined that Liang Chyuan Industrial Co., Ltd. and Integral Building Products Inc. comprise a single entity.² Because Liang Chyuan Industrial Co., Ltd. remains under review as a company not selected for individual examination, we did not intend to rescind the review with respect to Integral Building Products Inc., as it is part of a single entity with Liang Chyuan Industrial Co, Ltd.

¹ See Certain Steel Nails from Taiwan: Preliminary Results and Rescission, in Part, of Antidumping Administrative Review; 2022-2023, 89 FR 57856 (July 16, 2024).

² See Certain Steel Nails from Taiwan: Preliminary Results of Antidumping Duty Administrative Review; 2017-2018, 84 FR 48116 (September 12, 2019), unchanged in Certain Steel Nails from Taiwan: Final Results of Antidumping Duty Administrative Review and Determination of No Shipments; 2017-2018, 85 FR 14635 (March 13, 2020).

Correction

In the Federal Register of July 16, 2024, in FR Doc 2024-15603, on page 57860, in the first column, correct the appendix titled “Appendix I, Companies for Which Commerce is Rescinding the Administrative Review” by removing “Integral Building Products Inc.” Additionally, on page 57860 in the second column, correct the appendix titled “Appendix II—Companies Not Selected for Individual Examination,” by replacing “Liang Chyuan Industrial Co., Ltd.” with “Liang Chyuan Industrial Co., Ltd.; Integral Building Products Inc.” The corrected appendices entitled “Appendix I, Companies for Which Commerce is Rescinding the Administrative Review” and “Appendix II—Companies Not Selected for Individual Examination” are attached to this notice.

Notification to Interested Parties

This notice is issued and published in accordance with sections 751(a)(1) and 777(i) of the Tariff Act of 1930, as amended, and 19 351.221(b)(4).

Dated: July 26, 2024.
Ryan Majerus,
Deputy Assistant Secretary for Policy and Negotiations, performing the non-exclusive functions and duties of the Assistant Secretary for Enforcement and Compliance.

Appendix I—Companies for Which Commerce Is Rescinding the Administrative Review

1. A-Jax Enterprises Limited

2. A-Jax International Company Limited

3. A-Stainless International Company Limited

4. Advanced Global Sourcing Limited

5. Aimreach Enterprises Company Limited

6. Alishan International Group Co., Ltd.

7. Alisios International Corporation

8. Allwin Architectural Hardware Inc.

9. A.N. Cooke Manufacturing Co., Pty., Limited

10. Asia Engineered Components

11. Asia Link Industrial Corporation

12. Asia Smarten Way Corp. (Taiwan)

13. Astrotech Steels Private Ltd.

14. Autolink International Company Limited

15. BCR Inc.

16. Boltun Corporation Ltd.

17. Budstech CI Limited

18. Bulls Technology Company Limited

19. Canatex Industrial Company Limited

20. Cata Company Limited

21. Cenluxmetals Company Limited

22. Chang Bin Industrial Co., Ltd.

23. Channg Chin Industry Corporation

24. Charng Yu Industrial Company

25. Chen Nan Iron Wire Co., Ltd.

26. Chen Yu-Lan

27. Chia Da Fastener Company Limited

28. Chia Long Enterprise Co. Ltd.

29. Chiang Shin Fasteners Industries Ltd.

30. Chin Tai Sing Precision Manufactory Co., Ltd.

31. Chun Yu Works & Company Limited

32. Cornwall Enterprise Co., Ltd.

33. Cross International Co., Ltd.

34. Da Wing Industry Company Limited

35. DFK Industrial Corp.

36. Eagre International Trade Co., Ltd.

37. Ever-Top Hardware Corporation

38. Excel Components Manufacturing Co., Ltd.

39. Excellence Industrial Co. Ltd.

40. Fastguard Fastening Systems Inc.

41. Feng Yi Steel Co. Ltd.

42. Fong Yien Industrial Co., Ltd.

43. Fujian Xinhong Mech. & Elec. Co., Ltd.

44. Funtec International Co., Ltd.

45. Fuzhou Royal Floor Co., Ltd.

46. FWU Kuang Enterprise Co., Ltd.

47. H-H Fasteners Company

48. H-Locker Components Inc.

49. Hau Kawang Enterprise Co., Ltd.

50. Hecny Group

51. Hi-Sharp Industrial Corp., Ltd.

52. Hom Wei Enterprise Corporation

53. Hor Liang Industrial Corp.

54. HWA Hsing Screw Industry Co., Ltd.

55. Hwaguo Industrial Fasteners Co., Ltd.

56. Hy-Mart Fastener Co., Ltd.

57. Hyup Sung Indonesia

58. In Precision Link Co., Ltd.

59. Intai Technology Corporation

60. Ji Li Deng Fasteners Co., Ltd.

61. Jinhai Hardware Co., Ltd.

62. Jinn Her Enterprise Limited

63. Jointech Fasteners International Co., Ltd.

64. JunHai Enterprise Co. Ltd.

65. Kan Good Enterprise Co., Ltd.

66. Katsuhana Fasteners Corporation

67. Key Use Industrial Works Co., Ltd.

68. Kot Uniontek Co. Ltd.

69. K. Ticho Industries Co., Ltd.

70. K Win Fasteners Inc.

71. Kuan Hsin Screw Industry Co., Ltd.

72. Liang Ying Fasteners Industry Co., Ltd.

73. Long Chan Enterprise Co., Ltd.

74. Lu Chu Shin Yee Works Co., Ltd.

75. M&W Fasteners Co. Ltd.

76. Mechanical Hardwares Co.

77. Min Hwei Enterprise Co., Ltd.

78. Ming Cheng Precision Co., Ltd.

79. Ming Zhan Industrial Co., Ltd.

80. ML Global Ltd.

81. New Pole Power System Com. Ltd.

82. Newfast Co., Ltd.

83. Noah Enterprise Co., Ltd.

84. Nufasco Fastening System Corp.

85. Nytaps Taiwan Corporation

86. Par Excellence Industrial Co., Ltd.

87. Pengteh Industrial Co., Ltd.

88. Pneumax Corp.

89. Printech T Electronics Corporation

90. Pro-an International Co., Ltd.

91. Pro-Team Coil Nail Enterprise, Inc.

92. Pronto Great China Corp.

93. Professional Fasteners Development Co., Ltd.

94. P.S.M. Fasteners (Asia) Limited

95. PT Enterprise, Inc.

96. Real Fasteners Inc.

97. Region System Sdn. Bhd.

98. Region Industries Co., Ltd.

99. Region International Co., Ltd.

100. Right Source Co., Ltd.

101. Rong Chang Metal Co., Ltd.

102. Romp Coil Nail Industries Inc.

103. San Shing Fastech Corporation

104. SBSCQ Taiwan Limited

105. Shang Jeng Nail Co., Ltd.

106. Shanxi Pioneer Hardware Industrial Co., Ltd.

107. Shen Fong Industries Co.

108. Shin Guang Yin Enterprise Co. Ltd.

109. Somax Enterprise Co., Ltd.

110. Soon Port International Co. Ltd.

111. Star World Product and Trading Co., Ltd.

112. Sumeeko Industries Co., Ltd.

113. Sunshine Spring Co., Ltd.

114. Suntec Industries Co., Ltd.

115. Super Nut Industrial Co., Ltd.

116. Supreme Fasteners Corp.

117. Szu I Industries Co., Ltd.

118. Tag Fasteners Sdn. Bhd.

119. Taifas Corporation

120. Taiwan Geer-Tai Works Co., Ltd.

121. Taiwan Quality Fastener Co., Ltd.

122. Team Builder Enterprise Limited

123. Techno Associates Taiwan Co., Ltd.

124. Techup Development Co., Ltd.

125. TG Co., Ltd.

126. Tianjin Jinchi Metal Products Co. Ltd.

127. Tong Hwei Enterprise Co., Ltd.

128. Topps Wang International Ltd.

129. Unicatch Industrial Co., Ltd.

130. Unistrong Industrial Co., Ltd.

131. United Nail Products Co. Ltd.

132. United Tec Fastening Inc.

133. Vanguard International Co., Ltd.

134. Wa Tai Industrial Co., Ltd.

135. Way Fast International Co., Ltd.

136. Win Fastener Corporation

137. World Kun Co., Ltd.

138. Wumax Industry Co., Ltd.

139. Wyser International Corporation

140. Yiciscrew Co., Ltd.

141. Yng Tran Enterprise Company Limited

142. Yoh Chang Enterprise Company Limited

143. Your Standing International, Inc.

144. Yow Chern Company

145. Yumark Enterprises Corporation

146. Yu Tai World Co., Ltd.

147. Zenith Good Enterprise Corporation

148. Zonbix Enterprise Co. Ltd.

Appendix II—Companies Not Selected for Individual Examination

1. Bestwell International Corporation

2. Create Trading Co., Ltd.

3. Dar Yu Enterprise Co., Ltd.

4. Fastnet Corporation

5. Foison Hardware Income

6. GoFast Company Limited

7. JCH Hardware Company Inc.

8. Jockey Ben Metal Enterprise Co., Ltd.

9. Liang Chyuan Industrial Co., Ltd.; Integral Building Products Inc.

10. Midas Union Co., Ltd.

11. Pao Shen Enterprises Co., Ltd.

12. Rodex Fasteners Corp.

13. Spec Products Corporation

14. Ume-Pride International Inc.

15. WTA International Co., Ltd.

16. Wu Shun Enterprise Co.

17. Yeun Chang Hardware Tool Company Limited

[FR Doc. 2024-16995 Filed 7-31-24; 8:45 am]

BILLING CODE 3510-DS-P